DEPARTMENT OF TRANSPORTATION

Federal Aviation Administration

14 CFR Part 95

[Docket No. 31318; Amdt. No. 553]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, July 16, 2020.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on June 12, 2020.
Robert C. Carty,
Executive Deputy Director, Flight Standards Service.

Adoption of the Amendment

Accordingly, pursuant to the authority delegated to me by the Administrator, part 95 of the Federal Aviation Regulations (14 CFR part 95) is amended as follows effective at 0901 UTC, July 16, 2020.

1. The authority citation for part 95 continues to read as follows:

Authority: 49 U.S.C. 106(g), 40103, 40106, 40113, 40114, 40120, 44502, 44514, 44719, 44721.

2. Part 95 is amended to read as follows:

Revisions to IFR Altitudes & Changeover Point
[Amendment 553 effective date July 16, 2020]
FROM | TO | MEA | MAA
§ 95.3000 Low Altitude RNAV Routes
§ 95.3333 RNAV Route T333 is Amended by Adding
FELLOWS, CA VOR/DME | REDDE, CA WP | 7300 | 17500
REDDE, CA WP | LKHRN, CA WP | 5800 | 17500
LKHRN, CA WP | RANCK, CA FIX | 6700 | 17500
*6200—MCA | RANCK, CA FIX, SE BND
RANCK, CA FIX | PANOS, CA FIX | 6200 | 17500
*5500—MCA | PANOS, CA FIX, SE BND
PANOS, CA FIX | ULENY, CA WP | 5200 | 17500
*4500—MCA ULENY, CA WP, SE BND
ULENY, CA WP | HENCE, CA FIX | 4300 | 17500
HENCE, CA FIX | GILRO, CA FIX | 4700 | 17500
GILRO, CA FIX | BORED, CA FIX | 6100 | 17500
Is Amended to Delete
KLIDE, CA FIX | BORED, CA FIX | 6200 | 17500
§ K502 RNAV Route TK502 is Amended to Read in Part
SPATE, NY WP | DECKR, NY WP | 2900 | 17500

FROM | TO | MEA
§ 95.6001 Victor Routes-U.S.
§ 95.6007 VOR Federal Airway V7 is Amended to Delete
CENTRAL CITY, KY VORTAC | POCKET CITY, IN VORTAC | 2300
§ 95.6010 VOR Federal Airway V10 is Amended to Read in Part
DODGE CITY, KS VORTAC | STAFF, KS FIX | 4300
STAFF, KS FIX | HUTCHINSON, KS VOR/DME
| E BND | 3800
| W BND | 4300
§ 95.6015 VOR Federal Airway V15 is Amended to Delete
BONHAM, TX VORTAC | PRIZZ, OK FIX | *3600
*2100—MOCA
PRIZZ, OK FIX | MC ALESTER, OK VORTAC | *3000
*2500—MOCA
MC ALESTER, OK VORTAC | HOFFE, OK WP | 2700
HOFFE, OK WP | OKMULGEE, OK VOR/DME | 2600
§ 95.6017 VOR Federal Airway V17 is Amended to Delete
WACO, TX VORTAC | GAINS, TX WP | *3000
*2500—MOCA
GAINS, TX WP | BRIAN, TX FIX | 3000
BRIAN, TX FIX | GLEN ROSE, TX VORTAC | 3000
GLEN ROSE, TX VORTAC | MILLSAP, TX VORTAC | 3000
§ 95.6018 VOR Federal Airway V18 is Amended to Delete
MILLSAP, TX VORTAC | GLEN ROSE, TX VORTAC | 3000
GLEN ROSE, TX VORTAC | CEDAR CREEK, TX VORTAC | *3000
*2200—MOCA
§ 95.6025 VOR Federal Airway V25 is Amended to Read in Part
LAPED, CA FIX | *GRENY, CA FIX | 9000
*9000—MCA GRENY, CA FIX, S BND
GRENY, CA FIX | RED BLUFF, CA VORTAC
| N BND | 3200
| S BND | 9000
§ 95.6039 VOR Federal Airway V39 is Amended to Read in Part
CARMEL, NY VOR/DME | SOARS, CT FIX | #3000
#CARMEL R-057 UNUSABLE
SOARS, CT FIX | *MOONI, CT FIX
| N BND | **12000
| S BND | **6000
*12000—MCA MOONI, CT FIX, N BND
*6000—MCA MOONI, CT FIX, S BND
**6000—GNSS MEA
MOONI, CT FIX | *STUBY, CT FIX | **12000
*12000—MRA
*12000—MCA STUBY, CT FIX, S BND
**4900—MOCA
**6000—GNSS MEA
§ 95.6052 VOR Federal Airway V52 is Amended to Delete
POCKET CITY, IN VORTAC | *CENTRAL CITY, KY VORTAC | 2300
*6900—MCA CENTRAL CITY, KY VORTAC, SE BND
CENTRAL CITY, KY VORTAC | *BOWLING GREEN, KY VORTAC | **3000
*11000—MCA BOWLING GREEN, KY VORTAC, SE BND
**2400—MOCA
§ 95.6053 VOR Federal Airway V53 is Amended to Read in Part
CHARLESTON, SC VORTAC | COLUMBIA, SC VORTAC | 2100
§ 95.6054 VOR Federal Airway V54 is Amended to Read in Part
RAEFO, NC FIX | FAYETTEVILLE, NC VOR/DME | *5000
*1900—MOCA
§ 95.6062 VOR Federal Airway V62 is Amended to Delete
ABILENE, TX VORTAC | FLECK, TX FIX | 3300
FLECK, TX FIX | GEENI, TX FIX | *4000
*3500—MOCA
GEENI, TX FIX | GLEN ROSE, TX VORTAC | *3500
*3000—MOCA
§ 95.6063 VOR Federal Airway V63 is Amended to Delete
TEXOMA, OK VOR/DME | MC ALESTER, OK VORTAC | 2800
MC ALESTER, OK VORTAC | RAZORBACK, AR VORTAC | *4000
*3000—MOCA
§ 95.6091 VOR Federal Airway V91 is Amended to Read in Part
NESSI, CT FIX | *BRIDGEPORT, CT VOR/DME | 2000
*8800—MCA BRIDGEPORT, CT VOR/DME, N BND
BRIDGEPORT, CT VOR/DME | *MOONI, CT FIX
| N BND | **12000
| S BND | **6000
*12000—MCA MOONI, CT FIX, N BND
*6000—MCA MOONI, CT FIX, S BND
**5500—MOCA
**6000—GNSS MEA
MOONI, CT FIX | *BOWAN, NY FIX | **12000
*12000—MCA BOWAN, NY FIX, S BND
*12000—MCA BOWAN, NY FIX, N BND
**4900—MOCA
**6000—GNSS MEA
BOWAN, NY FIX | CIRRU, NY FIX | *12000
*4900—MOCA
*6000—GNSS MEA
CIRRU, NY FIX | *ALBANY, NY VORTAC
| N BND | **6000
| S BND | 12000
*9700—MCA ALBANY, NY VORTAC, S BND
**6000—GNSS MEA
§ 95.6094 VOR Federal Airway V94 is Amended to Delete
TUSCOLA, TX VOR/DME | GEENI, TX FIX | 4000
GEENI, TX FIX | GLEN ROSE, TX VORTAC | *3500
*3000—MOCA
GLEN ROSE, TX VORTAC | CEDAR CREEK, TX VORTAC | *3000
*2200—MOCA
§ 95.6113 VOR Federal Airway V113 is Amended to Delete
PASO ROBLES, CA VORTAC | PRIEST, CA VOR | 6000
PRIEST, CA VOR | *PANOCHE, CA VORTAC | 7500
*5500—MCA PANOCHE, CA VORTAC, S BND
§ 95.6125 VOR Federal Airway V125 is Amended to Delete
CAPE GIRARDEAU, MO VOR/DME | NIKEL, IL FIX | 3500
§ 95.6126 VOR Federal Airway V126 is Amended to Read in Part
GOSHEN, IN VORTAC | ILTON, IN FIX | *5000
*2400—MOCA
§ 95.6136 VOR Federal Airway V136 is Amended to Read in Part
RALEIGH/DURHAM, NC VORTAC | LANHO, NC FIX | 3100
LANHO, NC FIX | FAYETTEVILLE, NC VOR/DME | 2100
FAYETTEVILLE, NC VOR/DME | GRAND STRAND, SC VORTAC | #*3000
*2200—MOCA
#V136 WITHIN GAMECOCK A MOA 7000 AND ABOVE FROM 17-38 NM S OF FAY VOR DOES NOT EXIST WHEN MOA IS ACTIVATED
§ 95.6137 VOR Federal Airway V137 is Amended to Delete
AVENAL, CA VOR/DME | PRIEST, CA VOR | 6500
PRIEST, CA VOR | SALINAS, CA VORTAC | 6000
§ 95.6139 VOR Federal Airway V139 is Amended to Read in Part
HAMPTON, NY VORTAC | TRAIT, RI FIX | #
#UNUSABLE
TRAIT, RI FIX | PROVIDENCE, RI VOR/DME | *3000
*2100—MOCA
§ 95.6161 VOR Federal Airway V161 is Amended to Read in Part
ARDMORE, OK VORTAC | OKMULGEE, OK VOR/DME | 3000
§ 95.6163 VOR Federal Airway V163 is Amended to Delete
GOOCH SPRINGS, TX VORTAC | TENAT, TX FIX | *3500
*2700—MOCA
TENAT, TX FIX | GLEN ROSE, TX VORTAC | *3500
*2700—MOCA
§ 95.6178 VOR Federal Airway V178 is Amended to Delete
FARMINGTON, MO VORTAC | CAPE GIRARDEAU, MO VOR/DME | 3000
CAPE GIRARDEAU, MO VOR/DME | CUNNINGHAM, KY VOR/DME | 2400
CUNNINGHAM, KY VOR/DME | CENTRAL CITY, KY VORTAC | 2600
CENTRAL CITY, KY VORTAC | NEW HOPE, KY VOR/DME | 2700
is Amended to Read in Part
SLINK, WV FIX | BLUEFIELD, WV VOR/DME
| E BND | 6300
| W BND | 8000
§ 95.6181 VOR Federal Airway V181 is Amended to Read in Part
SIOUX FALLS, SD VORTAC | WATERTOWN, SD VORTAC | 4000
§ 95.6199 VOR Federal Airway V199 is Amended to Read in Part
MENDOCINO, CA VORTAC | *HENLE, CA FIX | 9000
*9000—MCA HENLE, CA FIX, S BND
HENLE, CA FIX | RED BLUFF, CA VORTAC
| N BND | 3200
| S BND | 9000
§ 95.6230 VOR Federal Airway V230 is Amended to Read in Part
PANOS, CA FIX | FIDDO, CA FIX | 9000
FIDDO, CA FIX | *PANOCHE, CA VORTAC | **7000
*8500—MCA PANOCHE, CA VORTAC, W BND
**5800—MOCA
§ 95.6234 VOR Federal Airway V234 is Amended to Read in Part
BYWAY, KS FIX | GABIE, KS FIX
| E BND | *4500
| W BND | *7100
*3800—MOCA
GABIE, KS FIX | HUTCHINSON, KS VOR/DME
| E BND | 3800
| W BND | 4500
§ 95.6272 VOR Federal Airway V272 is Amended to Delete
WILL ROGERS, OK VORTAC | MINGG, OK FIX | *4000
*3100—MOCA
MINGG, OK FIX | HOLLE, OK FIX | *4000
*2600—MOCA
HOLLE, OK FIX MC | ALESTER, OK VORTAC | 3000
MC ALESTER, OK VORTAC | FORT SMITH, AR VORTAC | *3500
*2900—MOCA
§ 95.6280 VOR Federal Airway V280 is Amended to Read in Part
WIPET, KS FIX | HUTCHINSON, KS VOR/DME
| E BND | 3400
| W BND | 8000
§ 95.6283 VOR Federal Airway V283 is Amended to Read in Part
SEAL BEACH, CA VORTAC | *JOGIT, CA FIX | 4000
*6800—MCA JOGIT, CA FIX, E BND
JOGIT, CA FIX | KAYOH, CA FIX
| W BND | 6200
| E BND | 8000
§ 95.6296 VOR Federal Airway V296 is Amended to Read in Part
RAEFO, NC FIX | FAYETTEVILLE, NC VOR/DME | *5000
*1900—MOCA
§ 95.6313 VOR Federal Airway V313 is Amended to Delete
MALDEN, MO VORTAC | CAPE GIRARDEAU, MO VOR/DME | 2300
CAPE GIRARDEAU, MO VOR/DME | GENTS, IL FIX | 3500
GENTS, IL FIX | CENTRALIA, IL VORTAC | *3000
*2400—MOCA
§ 95.6372 VOR Federal Airway V372 is Amended to Read in Part
SEAL BEACH, CA VORTAC | *JOGIT, CA FIX | 4000
*6800—MCA JOGIT, CA FIX, E BND
JOGIT, CA FIX | KAYOH, CA FIX
| W BND | 6200
| E BND | 8000
§ 95.6419 VOR Federal Airway V419 is Amended to Read in Part
CARMEL, NY VOR/DME | BRISS, CT FIX | #3000
#CARMEL R-057 UNUSABLE
§ 95.6429 VOR Federal Airway V429 is Amended to Delete
CAPE GIRARDEAU, MO VOR/DME | MARION, IL VOR/DME | 3000
§ 95.6442 VOR Federal Airway V442 is Amended to Read in Part
PARADISE, CA VORTAC | APLES, CA FIX | *10000
*8100—MOCA
*9000—GNSS MEA
APLES, CA FIX | HECTOR, CA VORTAC | *10000
*8500—MOCA
§ 95.6485 VOR Federal Airway V485 is Amended to Delete
FELLOWS, CA VOR/DME | *REDDE, CA WP | **7000
*7000—MCA REDDE, CA WP, SE BND
**6100—MOCA
REDDE, CA WP | PRIEST, CA VOR | 6000
PRIEST, CA VOR | PANOS, CA FIX | 6500
PANOS, CA FIX | HENCE, CA FIX | *6500
*5600—MOCA
HENCE, CA FIX | SAN JOSE, CA VOR/DME | 4600
§ 95.6487 VOR Federal Airway V487 is Amended to Read in Part
DUNBO, NY FIX | *BRIDGEPORT, CT VOR/DME | **2000
*8800—MCA BRIDGEPORT, CT VOR/DME, N BND
**1500—MOCA
BRIDGEPORT, CT VOR/DME | *MOONI, CT FIX
| N BND | **12000
| S BND | **6000
*12000—MCA MOONI, CT FIX, N BND
*6000—MCA MOONI, CT FIX, S BND
**5500—MOCA
**6000—GNSS MEA
MOONI, CT FIX | *BOWAN, NY FIX | **12000
*12000—MCA BOWAN, NY FIX, S BND
**4900—MOCA
**6000—GNSS MEA
BOWAN, NY FIX | CAMBRIDGE, NY VOR/DME
| N BND | 5000
| S BND | 6000
§ 95.6500 VOR Federal Airway V500 is Amended to Read in Part
GASHE, OR FIX | *KIMBERLY, OR VOR/DME | **9200
*8500—MCA KIMBERLY, OR VOR/DME, E BND
**8200—MOCA
KIMBERLY, OR VOR/DME | *POTSY, OR FIX
| E BND | 15000
| W BND | 11100
*15000—MRA
POTSY, OR FIX | FONNA, OR FIX | *15000
*10000—MOCA
FONNA, OR FIX | *HOSTS, OR FIX
| E BND | **11000
| W BND | **15000
*11700—MRA
**7800—MOCA
HOSTS, OR FIX | PARMO, ID FIX
| E BND | 7200
| W BND | 15000
PARMO, ID FIX | *BOISE, ID VORTAC
| E BND | 5400
| W BND | 15000
*7400—MCA BOISE, ID VORTAC, E BND
§ 95.6510 VOR Federal Airway V510 is Amended to Read in Part
FARGO, ND VOR/DME | ALEXANDRIA, MN VOR/DME
| E BND | *3600
| NW BND | *6000
*3100—MOCA
§ 95.6568 VOR Federal Airway V568 is Amended to Delete
LLANO, TX VORTAC | BUILT, TX FIX | *6000
*3200—MOCA
BUILT, TX FIX | GLEN ROSE, TX VORTAC | *3500
*3000—MOCA
GLEN ROSE, TX VORTAC | MILLSAP, TX VORTAC | 3000
§ 95.6583 VOR Federal Airway V583 is Amended to Delete
PARIS, TX VOR/DME | MC ALESTER, OK VORTAC | *3000
*2500—MOCA

FROM | TO | MEA | MAA
§ 95.7001 Jet Routes
§ 95.7014 Jet Route J14 is Amended to Delete
VULCAN, AL VORTAC | ATLANTA, GA VORTAC | 18000 | 45000
ATLANTA, GA VORTAC | SPARTANBURG, SC VORTAC | 18000 | 45000
SPARTANBURG, SC VORTAC | GREENSBORO, NC VORTAC | 18000 | 45000
§ 95.7020 Jet Route J20 is Amended to Delete
MONTGOMERY, AL VORTAC | SEMINOLE, FL VORTAC | 18000 | 45000
§ 95.7040 Jet Route J40 is Amended to Delete
MONTGOMERY, AL VORTAC | MACON, GA VORTAC | 18000 | 45000
MACON, GA VORTAC | CHARLESTON, SC VORTAC | 18000 | 45000
CHARLESTON, SC VORTAC | WILMINGTON, NC VORTAC | 18000 | 45000
WILMINGTON, NC VORTAC | TAR RIVER, NC VORTAC | 18000 | 45000
TAR RIVER, NC VORTAC | RICHMOND, VA VORTAC | 18000 | 45000
§ 95.7041 Jet Route J41 is Amended to Delete
SEMINOLE, FL VORTAC | MONTGOMERY, AL VORTAC | 18000 | 45000
§ 95.7043 Jet Route J43 is Amended to Delete
NEDDY, GA FIX | ATLANTA, GA VORTAC | 18000 | 45000
ATLANTA, GA VORTAC | VOLUNTEER, TN VORTAC | 18000 | 45000
§ 95.7045 Jet Route J45 is Amended to Delete
ALMA, GA VORTAC | MACON, GA VORTAC | 18000 | 45000
#ALMA R-320 UNUSABLE USE MACON R-139
MACON, GA VORTAC | ATLANTA, GA VORTAC | 18000 | 45000
§ 95.7051 Jet Route J51 is Amended to Delete
TUBAS, NC FIX | FLAT ROCK, VA VORTAC | 18000 | 45000
*18000—GNSS MEA
#FLAT ROCK R-218 UNUSABLE
FLAT ROCK, VA VORTAC | NOTTINGHAM, MD VORTAC | 18000 | 45000
NOTTINGHAM, MD VORTAC | PALEO, MD FIX | # |
#UNUSABLE
PALEO, MD FIX | DUPONT, DE VORTAC | # |
#UNUSABLE
DUPONT, DE VORTAC | YARDLEY, PA VOR/DME | 18000 | 29000
§ 95.7052 Jet Route J52 is Amended to Delete
VULCAN, AL VORTAC | ATLANTA, GA VORTAC | 18000 | 45000
ATLANTA, GA VORTAC | COLLIERS, SC VORTAC | 18000 | 45000
COLLIERS, SC VORTAC | COLUMBIA, SC VORTAC | 18000 | 45000
§ 95.7053 Jet Route J53 is Amended to Delete
DUNKN, GA FIX | COLLIERS, SC VORTAC | 18000 | 45000
COLLIERS, SC VORTAC | SPARTANBURG, SC VORTAC | 18000 | 45000
SPARTANBURG, SC VORTAC | PULASKI, VA VORTAC | 18000 | 45000
§ 95.7073 Jet Route J73 is Amended to Delete
WYATT, GA FIX | LAGRANGE, GA VORTAC | 18000 | 45000
§ 95.7075 Jet Route J75 is Amended to Delete
GREENSBORO, NC VORTAC | GORDONSVILLE, VA VORTAC | 18000 | 45000
GORDONSVILLE, VA VORTAC | MODENA, PA VORTAC | 18000 | 45000
MODENA, PA VORTAC | SOLBERG, NJ VOR/DME | 18000 | 23000
SOLBERG, NJ VOR/DME | CARMEL, NY VOR/DME | 18000 | 32000
CARMEL, NY VOR/DME | NELIE, CT FIX | 18000 | 45000
#RADAR REQUIRED BETWEEN CARMEL AND NELIE
NELIE, CT FIX | BOSTON, MA VOR/DME | 18000 | 45000
§ 95.7081 Jet Route J81 is Amended to Delete
DUNKN, GA FIX | COLLIERS, SC VORTAC | 18000 | 45000
§ 95.7085 Jet Route J85 is Amended to Delete
ALMA, GA VORTAC | COLLIERS, SC VORTAC | 18000 | 45000
COLLIERS, SC VORTAC | SPARTANBURG, SC VORTAC | 18000 | 45000
§ 95.7089 Jet Route J89 is Amended to Delete
ICBOD, GA FIX | ATLANTA, GA VORTAC | 18000 | 45000
§ 95.7091 Jet Route J91 is Amended to Delete
JOHNN, GA WP | ATLANTA, GA VORTAC | 24000 | 45000
ATLANTA, GA VORTAC | VOLUNTEER, TN VORTAC | 18000 | 45000
§ 95.7097 Jet Route J97 is Amended to Delete
SLATN, OA FIX | NANTUCKET, MA VOR/DME | 25000 | 45000
NANTUCKET, MA VOR/DME | BOSTON, MA VOR/DME | 18000 | 45000
§ 95.7105 Jet Route J105 is Amended to Delete
RANGER, TX VORTAC | MC ALESTER, OK VORTAC | 18000 | 45000
MC ALESTER, OK VORTAC | RAZORBACK, AR VORTAC | 18000 | 45000
RAZORBACK, AR VORTAC | SPRINGFIELD, MO VORTAC | 18000 | 45000
SPRINGFIELD, MO VORTAC | BRADFORD, IL VORTAC | 18000 | 45000
BRADFORD, IL VORTAC | BADGER, WI VOR/DME | 18000 | 45000
§ 95.7210 Jet Route J210 is Amended to Delete
VANCE, SC VORTAC | WILMINGTON, NC VORTAC | 18000 | 45000
§ 95.7575 Jet Route J575 is Amended to Delete
BOSTON, MA VOR/DME | U.S. CANADIAN BORDER | 18000 | 45000

Airway Segment: FROM | Airway Segment: TO | Changeover Points: Distance | Changeover Points: From
§ 95.8003 VOR Federal Airway Changeover Point
V139 is Amended to Add Changeover Point
HAMPTON, NY VORTAC | PROVIDENCE, RI VOR/DME | 28 | HAMPTON.
V39 is Amended to Add Changeover Point
SOARS, CT FIX | ALBANY, NY VORTAC | 8 | SOARS.
V91 is Amended to Modify Changeover Point
BRIDGEPORT, CT VOR/DME | ALBANY, NY VORTAC | 30 | BRIDGEPORT.
J40 is Amended to Delete Changeover Point
MONTGOMERY, AL VORTAC | MACON, GA VORTAC | 139 | MONTGOMERY.
J75 is Amended to Delete Changeover Point
MODENA, PA VORTAC | SOLBERG, NJ | 10 | MODENA.
J89 is Amended to Delete Changeover Point
ATLANTA, GA VORTAC | VALDOSTA, GA VOR/DME | 90 | ATLANTA.

[FR Doc. 2020-13260 Filed 7-2-20; 8:45 am]

BILLING CODE 4910-13-P